DEPARTMENT OF THE TREASURY

Office of the Comptroller of the Currency

12 CFR Chapter I

[Docket ID FFIEC-2014-0001]

BOARD OF GOVERNORS OF THE FEDERAL RESERVE SYSTEM

12 CFR Chapter II

[Docket No. R-1510]

FEDERAL DEPOSIT INSURANCE CORPORATION

12 CFR Chapter III

Regulatory Publication and Review Under the Economic Growth and Regulatory Paperwork Reduction Act of 1996

Correction

In proposed rule document 2015-32312 beginning on page 79724 in the issue of Wednesday, December 23, 2015 make the following corrections:

1. On page 79728 the table heading “Chart A— Categories and Regulations Addressed in this Fourth Federal Register Notice” was omitted.

2. On page 79731, the table heading “Chart B—Newly Listed Rules” preceding the text “1. Applications and Reporting” was omitted.

[FR Doc. C1-2015-32312 Filed 1-13-16; 8:45 am]

BILLING CODE 1505-01-D